DEPARTMENT OF LABOR

Employment and Training Administration

[TA-W-60,699]

Filtronic Comtek, Inc., Currently Known as Powerwave Technologies, Inc., Including On-Site Leased Workers From Quality Staffing Services, Salisbury, MD; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility To Apply for Worker Adjustment Assistance and Alternative Trade Adjustment Assistance on February 13, 2007, applicable to workers of Filtronic Comtek, Inc., including on-site leased workers from Quality Staffing Services, Salisbury, Maryland. The notice was published in the Federal Register on February 27, 2007 (72 FR 8795).

At the request of the State agency, the Department reviewed the certification for workers of the subject firm. The workers are engaged in the production of microwave filters for cellular telephone base stations.

New information shows that following a change in ownership in October 2006, Filtronic Comtek, Inc. is currently known as Powerwave Technologies, Inc. Workers separated from employment at the subject firm had their wages reported under a separate unemployment insurance (UI) tax account for Powerwave Technologies, Inc.

Accordingly, the Department is amending this certification to show that Filtronic Comtek, Inc. is currently known as Powerwave Technologies, Inc.

The intent of the Department's certification is to include all workers of Filtronic Comtek, Inc., currently known as Powerwave Technologies, Inc., who were adversely affected by a shift in production to China.

The amended notice applicable to TA-W-60,699 is hereby issued as follows:

All workers of Filtronic Comtek, Inc., currently known as Powerwave Technologies, Inc., including on-site leased workers from Quality Staffing Services, Salisbury, Maryland, who became totally or partially separated from employment on or after January 3, 2006, through February 13, 2009, are eligible to apply for adjustment assistance under Section 223 of the Trade Act of 1974, and are also eligible to apply for alternative trade adjustment assistance under Section 246 of the Trade Act of 1974.

Signed at Washington, DC this 27th day of June 2008.
Linda G. Poole,
Certifying Officer, Division of Trade Adjustment Assistance.

[FR Doc. E8-15858 Filed 7-11-08; 8:45 am]

BILLING CODE 4510-FN-P